DEPARTMENT OF COMMERCE

International Trade Administration

[A-570-051, C-570-052]

Certain Hardwood Plywood Products From the People's Republic of China: Preliminary Scope Determination and Affirmative Preliminary Determination of Circumvention of the Antidumping and Countervailing Duty Orders; Extension of Deadline To Certify Certain Entries

AGENCY: Enforcement and Compliance, International Trade Administration, Department of Commerce.

DATES: Applicable September 12, 2022.

SUMMARY: On July 29, 2022, the U.S. Department of Commerce (Commerce) published a notice of a preliminary scope determination and affirmative preliminary circumvention determination in the Federal Register concerning the antidumping duty (AD) and countervailing duty (CVD) orders on certain hardwood plywood products (hardwood plywood) from the People's Republic of China (China). This notice informs parties that Commerce has extended the deadline for certain exporters and importers to certify entries of hardwood plywood exported from the Socialist Republic of Vietnam (Vietnam) that were entered, or withdrawn from warehouse, for consumption on or after June 17, 2020, and until August 28, 2022.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION: In the Preliminary Determination, Commerce established a certification program and a deadline for certain exporters and importers to certify that entries of hardwood plywood exported from Vietnam that entered, or were withdrawn from warehouse, for consumption on or after June 17, 2020, and until August 28, 2022, are not subject to the AD/CVD orders on hardwood plywood from China.¹ The deadline for exporters and importers to complete these certifications was September 12, 2022.²

¹ See Certain Hardwood Plywood Products from the People's Republic of China: Preliminary Scope Determination and Affirmative Preliminary Determination of Circumvention of the Antidumping and Countervailing Duty Orders, 87 FR 45753, 45756-58 (July 29, 2022) (Preliminary Determination); see also Certain Hardwood Plywood Products from the People's Republic of China: Amended Final Determination of Sales at Less Than Fair Value, and Antidumping Duty Order, 83 FR 504 (January 4, 2018); and Certain Hardwood Plywood Products from the People's Republic of China: Countervailing Duty Order, 83 FR 513 (January 4, 2018).

² See Preliminary Determination, 87 FR 45756.

Extension

On September 12, 2022, Commerce issued a memorandum via Enforcement and Compliance's Antidumping and Countervailing Duty Centralized Electronic Service System (i.e., ACCESS) notifying interested parties that the deadline for the certifications to be complete was extended by 80 days.³ Also on September 12, 2022, Commerce transmitted instructions to U.S. Customs and Border Protection (CBP) notifying CBP of the extended deadline.⁴ The deadline for exporters and importers to complete the certification requirements established in the Preliminary Determination is now December 1, 2022. We note that the 36 companies that Commerce precluded from participating in this certification program in the Preliminary Determination are still precluded from participating in the certification program we established for applicable exports of hardwood plywood from Vietnam.⁵

³ See Memorandum, “Extension of Deadline to Certify Certain Entries of Hardwood Plywood and Response to Request to Modify Cash Deposit Instructions,” dated September 12, 2022.

⁴ See CBP Message 2255409, “Notice of amended deadline for certifications in the Vietnam-wide circumvention inquiry of the antidumping and countervailing duty orders on certain hardwood plywood products and veneered panels from the People's Republic of China (A-570-051, C-570-052 and A-552-006, C-552-007),” dated September 12, 2022; see also CBP Message 2255410, “Notice of amended deadline for certifications in the scope inquiry of the antidumping and countervailing duty orders on certain hardwood plywood products and veneered panels from the People's Republic of China (A-570-051 and C-570-052),” dated September 12, 2022.

⁵ See Preliminary Determination at Appendix V.

Notification to Interested Parties

This notice is issued and published in accordance with sections 781(b) of the Tariff Act of 1930, as amended and 19 CFR 351.225(f) and (h).⁶

⁶ Commerce significantly revised its scope regulations on September 20, 2021, with an effective date of November 4, 2021. See Regulations to Improve Administration and Enforcement of Antidumping and Countervailing Duty Laws, 86 FR 52300 (September 20, 2021). The amendments to 19 CFR 351.225 apply to scope inquiries for which a scope ruling application is filed, as well as any scope inquiry self-initiated by Commerce, on or after November 4, 2021. The newly promulgated 19 CFR 351.226 applies to circumvention inquiries for which a circumvention request is filed, as well as any circumvention inquiry self-initiated by Commerce, on or after November 4, 2021. We note that these scope and circumvention inquiries were initiated prior to the effective date of the new regulations, and, thus, any reference to the regulations is to the prior version of the regulations.

Dated: September 19, 2022.
Lisa W. Wang,
Assistant Secretary for Enforcement and Compliance.

[FR Doc. 2022-20666 Filed 9-22-22; 8:45 am]

BILLING CODE 3510-DS-P